Proclamation 9151 of July 25, 2014

World Hepatitis Day, 2014

By the President of the United States of America

A Proclamation

Around the world, one in twelve people are living with viral hepatitis. In the United States, millions of Americans are infected with this life-threatening disease, with more than two-thirds unaware of their infection status. Viral hepatitis can persist undetected for many years before revealing any symptoms, leading to long-term liver damage and thousands of American deaths each year. As we mark World Hepatitis Day, we strengthen our resolve to defeat this silent epidemic.

All forms of viral hepatitis pose serious health threats, but building public awareness can help prevent new cases and more effectively treat this disease. A safe and effective vaccine protects against hepatitis A and B. While there is no vaccine for hepatitis C, early detection and therapy can prevent liver damage, cirrhosis, and liver cancer; reduce the risk of death; and potentially cure the infection.

Though this disease can affect anyone, viral hepatitis impacts certain communities more than others. African Americans, American Indians, Asian American and Pacific Islanders, the baby boomer generation (those born between 1945 and 1965), and people living with HIV are all disproportionately affected by viral hepatitis. Incidence rates are also higher among people who inject drugs. We must ensure these hardest hit populations have information about screening, preventing, and treating viral hepatitis. And we must do more to address related health issues such as HIV and substance abuse.

Through the Affordable Care Act, my Administration has made major strides in expanding access to viral hepatitis prevention, care, and treatment. New health plans must now cover hepatitis C routine screening for individuals at high-risk and one-time screening for adults born between 1945 and 1965. These preventive services will allow more Americans to know their status and seek treatment.

Earlier this year, my Administration updated our Nation's first-ever comprehensive Action Plan for the Prevention, Care, and Treatment of Viral Hepatitis. Alongside Federal, private, and non-profit stakeholders across our country, we will continue to strengthen our Nation's response. Together, we can raise awareness, reduce the number of new cases, and save lives.

Thanks to the tireless leadership of researchers and advocates, we are beginning to break the silence surrounding viral hepatitis. Today, we once again raise our voices, educate our at-risk communities, and support those living with this disease.

NOW, THEREFORE, I, BARACK OBAMA, President of the United States of America, by virtue of the authority vested in me by the Constitution and the laws of the United States, do hereby proclaim July 28, 2014, as World Hepatitis Day. I encourage citizens, Government agencies, non-profit organizations, and communities across the Nation to join in activities that will increase awareness about hepatitis and what we can do to prevent it.

IN WITNESS WHEREOF, I have hereunto set my hand this twenty-fifth day of July, in the year of our Lord two thousand fourteen, and of the Independence of the United States of America the two hundred and thirty-ninth.

[FR Doc. 2014-18167

Filed 7-30-14; 8:45 am]

Billing code 3295-F4